POSTAL SERVICE

39 CFR Part 111

Electronic Induction (eInduction®) Option

AGENCY: Postal Service™.

ACTION: Proposed rule.

SUMMARY: The Postal Service proposes to revise Mailing Standards of the United States Postal Service, Domestic Mail Manual (DMM®) to add an option to streamline the processing of drop shipments and expedited plant load mailings.

DATES: Submit comments on or before February 8, 2017.

ADDRESSES: Mail or deliver written comments to the manager, Product Classification, U.S. Postal Service, 475 L'Enfant Plaza SW., Room 4446, Washington, DC 20260-5015. If sending comments by email, include the name and address of the commenter and send to ProductClassification@usps.gov, with a subject line of “eInduction Option.” Faxed comments are not accepted.

You may inspect and photocopy all written comments, by appointment only, at USPS® Headquarters Library, 475 L'Enfant Plaza SW., 11th Floor North, Washington, DC 20260. These records are available for review on Monday through Friday, 9 a.m.-4 p.m., by calling 202-268-2906.

FOR FURTHER INFORMATION CONTACT: Direct questions or comments to Heather Dyer by email at heather.l.dyer@usps.gov or phone (207) 482-7217, or Jacqueline Erwin by email at jacqueline.r.erwin@usps.gov or phone (202) 268-2158.

SUPPLEMENTARY INFORMATION: The Electronic Induction (eInduction) option is a process that streamlines the preparation and induction (how and where the mail physically enters the Postal Service mailstream) of drop shipments and expedited plant load mailings. eInduction links scans of Intelligent Mail container barcodes (IMcb) to the electronic documentation (eDoc) information, allowing the Postal Service to verify that postage was paid prior to accepting a mailer shipped container. eInduction eliminates the need for paper PS Forms 8125, 8125-CD, and 8017, and manual reconciliation at the entry facility. Correct postage payment is verified both at the entry facility and during post-induction processing in PostalOne!.

Mailers who would like to use the eInduction option must meet eligibility requirements and request authorization by contacting the Facility Access Shipping Tracking, (FAST)® Helpdesk. Business Mailer Support will provide final authorization. Additional information, including information regarding verification and associated assessments, is provided in Publication 6850, Publication for Streamlined Mail Acceptance for Letters and Flats, available at https://postalpro.usps.com/node/581.

List of Subjects in 39 CFR Part 111

Administrative practice and procedure, Postal Service.

Although exempt from the notice and comment requirements of the Administrative Procedure Act (5 U.S.C. 553(b), (c)) regarding proposed rulemaking by 39 U.S.C. 410(a), the Postal Service invites public comments on the following proposed revisions to Mailing Standards of the United States Postal Service, Domestic Mail Manual (DMM), incorporated by reference in the Code of Federal Regulations. See 39 CFR 111.1.

Accordingly, 39 CFR part 111 is proposed to be amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

Mailing Standards of the United States Postal Service, Domestic Mail Manual (DMM)

* * * * *

700 Special Standards

* * * * *

705 Advanced Preparation and Special Postage Payment Systems

* * * * *

[Add new section 20.0, to read as follows:]

20.0 eInduction Option

20.1 Description

Electronic Induction (eInduction) is an electronic alternative to using the following paper PS Forms 8125, 8125C, 8125CD, and 8017 for all containers entered at the dock of a processing facility or claiming a Destination Delivery Unit (DDU) discount. eInduction uses Intelligent Mail container barcode (IMcb) scans to determine container payment and delivery status, and verifies payment and entry location by matching IMcb scan data to electronic documentation (eDoc) information. Containers are eligible for eInduction at certain designated facilities. Additional information, including information regarding verification and associated assessments, is provided in Publication 6850, Publication for Streamlined Mail Acceptance for Letters and Flats, at https://postalpro.usps.com/node/581.

20.2 Approval

Mailers must be authorized by the USPS to participate in the eInduction program.

20.3 General Eligibility Standards

First-Class Mail, Periodicals, Standard Mail letters and flats, and Bound Printed Matter presorted or carrier route barcoded flats and packages are eligible for eInduction. All containers entered under eInduction must:

a. Be labeled with a USPS placard and a unique Intelligent Mail container barcode. All required pallets and similar containers (such as all-purpose containers, hampers, and gaylords) and all containers prepared under 8.0 must display container placards that include accurately encoded Intelligent Mail container barcodes (IMcb) as described in 708.6.6. Mailing documentation must indicate each container participating in eInduction. b. Be part of a mailing using an approved electronic method to transmit a postage statement and mailing documentation to the PostalOne! system.

c. Not include containers included on paper PS Forms 8125/8017.

d. Be included on a scheduled FAST appointment when entered at a USPS processing facility.

20.4 Additional Standards

20.4.1 Special Support for Continuous Mailers

Mailers who cannot generate a finalized postage statement two hours before container entry may request approval for an eInduction Continuous Mailer ID, (MID). Once approved, mailers using an authorized MID in the IMcb may enter any container with the approved MID in the IMcb prior to the receipt of electronic documentation. Mailers are required to submit an eDoc and generate a finalized postage statement for all eInduction MID containers within one calendar day of the unload scan. Mailers may request authorization for an MID through the Business Customer Gateway. The USPS must approve the mailer request before the mailer may participate in the MID process.

* * * * *

We will publish an appropriate amendment to 39 CFR part 111 to reflect these changes, if our proposal is adopted.

Stanley F. Mires,
Attorney, Federal Compliance.

[FR Doc. 2016-32056 Filed 1-6-17; 8:45 am]

BILLING CODE 7710-12-P